GENERAL SERVICES ADMINISTRATION

Notice of Availability of the Release of the Record of Decision

AGENCY: Public Buildings Service, GSA.

ACTION: Notice of Availability

SUMMARY: The U.S. General Service Administration (GSA) hereby gives notice of a Record of Decision that has been issued as a part of the Peace Arch Port of Redevelopment Project NEPA (National Environmental Policy Act) statement that was conducted over 2004 - 2006.

An Environmental Impact Statement was conducted with significant input from the public with many public meetings. A ROD is the last step for this project under the NEPA process.

FOR FURTHER INFORMATION CONTACT: The ROD is on file with GSA and a copy can be obtained by contacting: Michael Levine, Regional Environmental Program Analyst, US General Services Administration, 400 - 15th St. SW., 10PTP, Auburn, WA 98001. He may also be contacted by phone at (253) 931-7263, by fax at (253) 931-7308, or e-mail at Michael.levin@gsa.gov.

Dated: July 5, 2006.
Jon Kvistad
Regional Administrator, Region 10

[FR Doc. E6-11041 Filed 7-13-06; 8:45 am]

BILLING CODE 6820-A7-S